DEPARTMENT OF HOMELAND SECURITY

U.S. Customs and Border Protection

DEPARTMENT OF THE TREASURY

19 CFR Parts 127 and 133

[USCBP-2019-0031]

RIN 1515-AE35

Disclosure of Information Regarding Abandoned Merchandise

AGENCY: U.S. Customs and Border Protection, Department of Homeland Security; Department of the Treasury.

ACTION: Notice of proposed rulemaking; extension of comment period.

SUMMARY: This document provides additional time for interested parties to submit comments on the proposed rule published August 27, 2019, to amend the U.S. Customs and Border Protection (CBP) regulations pertaining to disclosure of information regarding merchandise that was voluntarily abandoned. Based on a request from the public to provide additional time to prepare comments on the proposed rule, CBP is extending the comment period to November 15, 2019.

DATES: The comment period for the proposed rule published August 27, 2019 (84 FR 44790), is extended. Comments must be received on or before November, 15, 2019.

ADDRESSES: You may submit comments, identified by docket number, by one of the following methods:

• Federal eRulemaking Portal: http://www.regulations.gov. Follow the instructions for submitting comments via docket number USCBP-2019-0031.

• Mail: Trade and Commercial Regulations Branch, Regulations and Rulings, Office of Trade, U.S. Customs and Border Protection, 90 K Street NE, 10th Floor, Washington, DC 20229-1177.

Instructions: All submissions received must include the agency name and docket number for this rulemaking. All comments received will be posted without change to http://www.regulations.gov, including any personal information provided. For detailed instructions on submitting comments and additional information on the rulemaking process, see the Public Participation heading of the SUPPLEMENTARY INFORMATION section of this document.

Docket: For access to the docket to read background documents or comments received, go to http://www.regulations.gov. Submitted comments may also be inspected during regular business days between the hours of 9 a.m. and 4:30 p.m. at the Trade and Commercial Regulations Branch, Regulations and Rulings, Office of Trade, U.S. Customs and Border Protection, 90 K Street NE, 10th Floor, Washington, DC. Arrangements to inspect submitted comments should be made in advance by calling Mr. Joseph Clark at (202) 325-0118.

FOR FURTHER INFORMATION CONTACT: Alex Bamiagis, Intellectual Property Branch, Regulations and Rulings, Office of Trade, U.S. Customs and Border Protection, (202) 325-0415.

SUPPLEMENTARY INFORMATION:

Public Participation

Interested persons are invited to participate in this rulemaking by submitting written data, views, or arguments on all aspects of the proposed rule. CBP also invites comments that relate to the economic, environmental, or federalism effects that might result from this proposed rule. If appropriate to a specific comment, the commenter should reference the specific portion of the proposed rule, explain the reason for any recommended change, and include data, information, or authority that support such recommended change.

Background

On August 27, 2019, U.S. Customs and Border Protection (CBP) published a document in the Federal Register (84 FR 44790), that proposes to amend the CBP regulations pertaining to disclosure of information regarding merchandise bearing suspected counterfeit trademarks that was voluntarily abandoned. The document solicited public comments on the proposed rule and requested that commenters submit their comments on or before October 28, 2019.

Extension of Comment Period

In response to the proposed rule published in the Federal Register, CBP has received correspondence from the public requesting an extension of the comment period. CBP has decided to grant the extension. Accordingly, the comment period for the proposed rule is extended to November 15, 2019.

Dated: October 23, 2019.
Alice A. Kipel,
Executive Director, Regulations and Rulings, Office of Trade, U.S. Customs and Border Protection.

[FR Doc. 2019-23542 Filed 10-25-19; 8:45 am]

BILLING CODE 9111-14-P